DEPARTMENT OF EDUCATION

National Assessment Governing Board Quarterly Board Meeting

AGENCY: National Assessment Governing Board, U.S. Department of Education.

ACTION: Announcement of open and closed meetings.

SUMMARY: This notice sets forth the agenda for the May 14-16, 2015 Quarterly Meeting of the National Assessment Governing Board (hereafter referred to as Governing Board). This notice provides information to members of the public who may be interested in attending the meeting or providing written comments on the meeting. The notice of this meeting is required under Section 10(a)(2) of the Federal Advisory Committee Act (FACA).

DATES: The Quarterly Board meeting will be held on the following dates:

• May 14, 2015 from 11:30 a.m. to 5:45 p.m.

• May 15, 2015 from 8:30 a.m. to 5:00 p.m.

• May 16, 2015 from 7:30 a.m. to 11:00 a.m.

ADDRESSES:

May 14: Assessment Development Committee—Hotel Indigo: 400 Brown Street, Columbus, Indiana

May 14: Executive Committee—Columbus Visitor's Center, 501 5th Street, Columbus, Indiana

May 15: Full Board: The Commons, 300 Washington Street, Columbus, Indiana.

Committee Meetings:

May 15: Assessment Development Committee—The Commons

May 15: Committee on Standards, Design and Methodology: Zaharakos, 329 Washington Street, Columbus, Indiana.

May 15: Reporting and Dissemination Committee—Columbus Visitors Center

May 16: Nominations Committee—The Commons

May 16: Full Board—The Commons

FOR FURTHER INFORMATION CONTACT: Munira Mwalimu, Executive Officer, 800 North Capitol Street NW., Suite 825, Washington, DC 20002, telephone: (202) 357-6938, fax: (202) 357-6945.

SUPPLEMENTARY INFORMATION: Statutory Authority and Function: The National Assessment Governing Board is established under Title III—National Assessment of Educational Progress Authorization Act, Public Law 107-279. Information on the Board and its work can be found at www.nagb.gov.

The Board is established to formulate policy for the National Assessment of Educational Progress (NAEP). The Board's responsibilities include the following: Selecting subject areas to be assessed, developing assessment frameworks and specifications, developing appropriate student achievement levels for each grade and subject tested, developing standards and procedures for interstate and national comparisons, improving the form and use of NAEP, developing guidelines for reporting and disseminating results, and releasing initial NAEP results to the public.

Detailed Meeting Agenda: May 14-16, 2015

May 14: Committee Meetings

Assessment Development Committee: Open Session: 11:30 a.m.-3:00 p.m.

Executive Committee: Open Session: 4:30 p.m.-5:00 p.m.; Closed Session: 5:00 p.m.-5:45 p.m.

May 15: Full Board and Committee Meetings

Full Board: Open Session: 8:30 a.m.-9:45 a.m.; Open Session 1:00 p.m.-5:00 p.m.

Committee Meetings

Assessment Development Committee (ADC): Open Session: 10:15 a.m.-12:30 p.m.

Reporting and Dissemination Committee (R&D): Open Session: 10:15 a.m.-12:30 p.m.

Committee on Standards, Design and Methodology (COSDAM): Open Session: 10:15 a.m.-11:30 a.m.; Closed Session: 11:30 a.m.-12:30 p.m.

May 16: Full Board and Committee Meetings

Nominations Committee: Closed Session: 7:30 a.m.-8:15 a.m.

Full Board: Closed Session: 8:30 a.m.-9:45 a.m. Open Session 10:00 a.m.-11:00 a.m.

On May 14, 2015, from 11:30 a.m. to 3:00 p.m., the Assessment Development Committee will meet in open session to review NAEP contextual variables. The Executive Committee will convene in open session on May 14, 2015 from 4:30 p.m. to 5:00 p.m. and thereafter in closed session from 5:00 p.m. to 5:45 p.m. During the closed session, the Executive Committee will receive and discuss cost estimates on various options for implementing NAEP's Assessment Schedule for 2014-2024 and will discuss NAEP's budgetary needs for the President's FY 2017 budget. The implications of the cost estimates and funds in support of the NAEP Assessment Schedule and future NAEP activities will also be discussed. This meeting must be conducted in closed session because public disclosure of this information would likely have an adverse financial effect on the NAEP program by providing confidential cost details and proprietary contract costs of current contractors to the public. Discussion of this information would be likely to significantly impede implementation of a proposed agency action if conducted in open session. Such matters are protected by exemption 9(B) of § 552b of Title 5 U.S.C.

On May 15, 2015, the full Board will meet in open session from 8:30 a.m. to 9:45 a.m. The Board will review and approve the May 15-16, 2015 Board meeting agenda and meeting minutes from the March 2015 Quarterly Board meeting. This session will be followed by the Chairman's remarks and welcome remarks from Dale Nowlin, Governing Board member and Glenda Ritz, Indiana Superintendent of Public Instruction. Thereafter, the full Board will receive update reports from the Deputy Executive Director of the Governing Board, the Acting Director of the Institute of Education Sciences, and the Acting Commissioner of the National Center for Education Statistics. The Board will recess for Committee meetings from 10:15 a.m. to 12:30 p.m.

The Assessment Development Committee and the Reporting and Dissemination Committee will meet in open sessions from 10:15 a.m. to 12:30 p.m. The Committee on Standards, Design and Methodology (COSDAM) will meet in open session from 10:15 a.m. to 11:30 a.m. and thereafter in closed session from 11:30 a.m. to 12:30 p.m. During the closed session COSDAM will discuss information regarding analyses of the 2014 grade 8 Technology and Engineering Literacy (TEL) assessment, and discuss secure NAEP TEL data. This part of the meeting must be conducted in closed session because the analysis involves the use of secure data for the NAEP TEL assessment. Public disclosure of secure data would significantly impede implementation of the NAEP assessment program if conducted in open session. Such matters are protected by exemption 9(B) of § 552b of Title 5 U.S.C.

Following the Committee meetings, the Board will convene in open session from 1:00 p.m. to 2:15 p.m. to discuss the Governing Board's Strategic Planning Initiative. This session will be followed by discussions on the NAEP Assessment Literacy Initiative led by the Work Group Chair from 2:30 p.m. to 4:00 p.m. From 4:15 p.m. to 5:00 p.m. the Board will discuss a draft resolution on NAEP Trend Reporting.

The May 15, 2015 session of the Board meeting will adjourn at 5:00 p.m.

On May 16, 2015, the Nominations Committee will meet in closed session from 7:30 a.m. to 8:15 a.m. to discuss candidates for the eight Board vacancies for terms beginning on October 1, 2015 and begin discussion of the process for nominating candidates for terms beginning in October 2016. The Committee's discussions pertain solely to internal personnel rules and practices of an agency and information of a personal nature where disclosure would constitute an unwarranted invasion of personal privacy. As such, the discussions are protected by exemptions 2 and 6 of § 552b(c) of Title 5 of the United States Code.

Thereafter, the Board will meet in closed session from 8:30 a.m. to 9:45 a.m. to review and discuss independent government costs estimates for subjects to be assessed under the NAEP Schedule of Assessments. During the closed session, the Board will receive and discuss cost estimates on various options for implementing NAEP's Assessment Schedule through the year 2024 and will discuss NAEP's budgetary needs for the President's FY 2017 budget request. The implications of the cost estimates and funds in support of the NAEP Assessment Schedule and future NAEP activities will also be discussed. This session will be an in-depth briefing and discussion to examine cost projections which will impact the NAEP schedule through 2024. This part of the meeting must be conducted in closed session because public disclosure of this information would likely have an adverse financial effect on the NAEP program by providing contractors attending the Board meeting an unfair advantage in procurement and contract negotiations for NAEP. Discussion of this information would be likely to significantly impede implementation of a proposed agency action if conducted in open session. Such matters are protected by exemption 9(B) of § 552b of Title 5 U.S.C.

Following the closed session, from 10:00 a.m. to 10:15 a.m., the incoming Executive Director will provide remarks to the full Board in open session. The Board will then receive reports from the standing committees and take action on a recommendation from the Reporting and Dissemination Committee on NAEP Core Contextual Variables. The May 16, 2015 meeting is scheduled to adjourn at 11:00 a.m.

Access to Records of the Meeting: Pursuant to FACA requirements, the public may also inspect the meeting materials at www.nagb.gov on Friday, May 8, 2015 by 9:00 a.m. ET. The official verbatim transcripts of the public meeting sessions will be available for public inspection no later than 30 calendar days following the meeting.

Reasonable Accommodations: The meeting site is accessible to individuals with disabilities. If you will need an auxiliary aid or service to participate in the meeting (e.g., interpreting service, assistive listening device, or materials in an alternate format), notify the contact person listed in this notice at least two weeks before the scheduled meeting date. Although we will attempt to meet a request received after that date, we may not be able to make available the requested auxiliary aid or service because of insufficient time to arrange it.

Electronic Access to this Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Pub. L. 107-279, Title III—National Assessment of Educational Progress § 301.

Dated: April 23, 2015.
Mary Crovo,
Deputy Executive Director, National Assessment Governing Board (NAGB), U.S. Department of Education.

[FR Doc. 2015-09956 Filed 4-28-15; 8:45 am]

BILLING CODE P